DEPARTMENT OF THE INTERIOR

Bureau of Land Management

[L57000000.BX0000.LLES955000]

Privacy Act of 1974, as Amended; Notice of a New System of Records

AGENCY: Bureau of Land Management, Interior.

ACTION: Notice of creation of a new system of records.

SUMMARY: Pursuant to the provisions of the Privacy Act of 1974, as amended, the Department of the Interior is issuing a public notice of its intent to create the Bureau of Land Management (BLM) “General Land Office Records Automation System—Interior, BLM-42” system of records. The system of records contains information collected from publicly available historical Federal land conveyance documents (land patents, survey plats, field notes and land status records) maintained by the BLM General Land Office, and billing information of individuals requesting certified copies of land conveyance documents. The purpose of this system is to maintain, protect and preserve more than five million documents of historical relevance and to make these valuable resources for natural resource agencies, historians, surveyors, title companies, and genealogists available via the General Land Office Records Web site.

DATES: Comments must be received by July 7, 2014. This new system will be effective July 7, 2014.

ADDRESSES: Any person interested in commenting on this notice may do so by: submitting comments in writing to Suzanne Wachter, BLM Privacy Act Officer, 20 M Street SE., Mail Stop 590, Washington, DC 20003; hand-delivering comments to Suzanne Wachter, BLM Privacy Act Officer, 20 M Street SE., Mail Stop 590, Washington, DC 20003; or by emailing comments to swachter@blm.gov.

FOR FURTHER INFORMATION CONTACT: Branch Chief, General Land Office Records Automation, BLM, Eastern States, Branch of General Land Office Records, 20 M Street SE., Washington, DC 20003; or by telephone at 703-440-1786.

SUPPLEMENTARY INFORMATION:

I. Background

The Department of the Interior (DOI), BLM is creating the “General Land Office Records Automation System (GLORAS)—Interior, BLM-42” system of records. The purpose of this system is to maintain more than five million documents of historical relevance, to include: Survey plats, field notes, homesteads certificates, cash patents, military warrants, and railroad grants. These records are valuable resources for natural resource agencies, historians, surveyors, title companies, and genealogists. Increased demand for the information in these records and the preservation of the historic documents provided the impetus for the BLM to create an automated records archive and make the records available to the public.

The system will be effective as proposed at the end of the comment period on July 7, 2014, unless comments are received which would require a contrary determination. The DOI will publish a revised notice if changes are made based upon a review of the comments received.

II. Privacy Act

The Privacy Act of 1974, as amended, embodies fair information practice principles in a statutory framework governing the means by which Federal agencies collect, maintain, use, and disseminate individuals' personal information. The Privacy Act applies to records about individuals that are maintained in a “system of records.” A “system of records” is a group of any records under the control of an agency for which information is retrieved by the name of an individual or by some identifying number, symbol, or other identifying particular assigned to the individual. In the Privacy Act, an individual is defined as a U.S. citizen or lawful permanent resident. As a matter of policy, DOI extends administrative Privacy Act protections to all individuals. Individuals may request access to their own records that are maintained in a system of records in the possession or under the control of the DOI by complying with DOI Privacy Act regulations, 43 CFR part 2.

The Privacy Act requires each agency to publish in the Federal Register a description denoting the type and character of each system of records that the agency maintains and the routine uses that apply to each system in order to make agency record keeping practices transparent; to notify individuals regarding the uses of their records; and, to assist individuals to more easily find such records within the agency. Below is the description of the BLM “General Land Office Records Automation System (GLORAS)—Interior, BLM-42” system of records.

In accordance with 5 U.S.C. 552a(r), DOI has provided a report of this system of records to the Office of Management and Budget and to Congress.

III. Public Disclosure

Before including your address, phone number, email address, or other personal identifying information in your comment, you should be aware that your entire comment, including your personal identifying information, may be made publicly available at any time. While you can ask us in your comment to withhold your personal identifying information from public review, we cannot guarantee that we will be able to do so.

Dated: May 20, 2014.
Suzanne Wachter,
Privacy Act Officer, Bureau of Land Management.

SYSTEM NAME:

General Land Office Records Automation System (GLORAS)—Interior, BLM-42

SYSTEM LOCATION:

The system servers are located at the Department of the Interior, National Operation Center, Denver Federal Center, Building 50, Denver, CO 80225-0047. The records in the system are maintained at the Bureau of Land Management, General Land Office, 7450 Boston Blvd., Springfield, VA 22153.

CATEGORIES OF INDIVIDUALS COVERED BY THE SYSTEM:

Individuals covered by the system include patentees, warrantees, assignees, surveyors, and any other individual who has been associated with or named in any of these historical Federal land conveyance records. The system also contains information on individuals who request a certified copy of a Federal land conveyance record.

CATEGORIES OF RECORDS IN THE SYSTEM:

(1) Records in the system include but are not limited to information related to historical land documents, homesteads certificates, cash patents, military warrants, and railroad grants, including survey plats and field notes, land status records and controlled document indexes. Information within these records may include but are not limited to: Names of individuals, county, township, range, meridian, section number, Land Office, document number, Indian Allotment number, survey number, authority for the grant, issue date, militia grant, tribe, geographical name of the property, mining claim, survey type, surveyor name, contract/group number, survey approved date, and document type.

(2) The system also maintains records on individuals who submit requests to purchase certified copies of Federal land conveyance records that are not available to the public. Categories of records maintained on individuals requesting certified copies of Federal land conveyance records include: The individual's name, address, phone number, email address, and credit card number.

AUTHORITY FOR MAINTENANCE OF THE SYSTEM:

1 Stat. 464, The Public Land Act of 1796; 2 Stat. 716, The General Land Office Act, April 25, 1812; and 9 Stat. 395, Establishing Act of March 3, 1849.

ROUTINE USES OF RECORDS MAINTAINED IN THE SYSTEM, INCLUDING CATEGORIES OF USERS AND THE PURPOSES OF SUCH USES:

The primary purpose of the system is to provide researchers and interested members of the public with online access to millions of historical land documents that may be used for research purposes, or in lieu of the original document to confirm title, or for historical or genealogical evidence. The system also manages online orders and billing records for individual members of the public who purchase certified copies of the historical documents. This information is used solely to process the requests.

In addition to those disclosures generally permitted under 5 U.S.C. 552a(b) of the Privacy Act, disclosures outside DOI may be made as a routine use pursuant to 5 U.S.C. 552a(b)(3) as follows:

(1) (a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To State, territorial and local governments and tribal organizations to provide information needed in response to court order and/or discovery purposes related to litigation, when the disclosure is compatible with the purpose for which the records were compiled.

(8) To an expert, consultant, or contractor (including employees of the contractor) of the DOI that performs services requiring access to these records on the DOI's behalf to carry out the purposes of the system. (9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

(11) To the Department of the Treasury to recover debts owed to the United States.

(12) To the news media and the public, with the approval of the Public Affairs Officer in consultation with Counsel and the Senior Agency Official for Privacy, where there exists a legitimate public interest in the disclosure of the information, except to the extent it is determined that release of the specific information in the context of a particular case would constitute an unwarranted invasion of personal privacy.

(13) To other Federal, State, tribal organization and local government officials to retrieve or analyze specific legal land descriptions for projects under their authority which provides information needed to resolve discrepancies in land titles.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1996 (31 U.S.C. 3701(a)(3)).

POLICIES AND PRACTICES FOR STORING, RETRIEVING, ACCESSING, RETAINING AND DISPOSING OF RECORDS IN THE SYSTEM:

STORAGE:

Electronic records are contained in computers, magnetic disks, computer tapes, removable drives, email and electronic databases. Both production and backup tapes are stored in a secure location in a government controlled environment. The original historical land records maintained in paper format are stored in acid-free boxes in climate access controlled vaults. Order forms maintained in paper format are contained in locked filing cabinets in government controlled facilities.

RETRIEVABILITY:

Records in the system are retrieved by an individual's name, county, township, range, meridian, section number, Land Office, document number, Indian Allotment number, survey number, authority for the grant, issue date, Militia grant, tribe, geographical name of the property, mining claim, survey type, surveyor name, contract/group number, survey approved date, document type, date of request, and order number.

SAFEGUARDS:

Public access to the system is limited to the web interface that allows users to only retrieve public Federal land conveyance records and submit online orders. Safeguards for electronic records conform to Office of Management and Budget and Departmental guidelines reflecting the implementation of the Federal Information Security Management Act of 2002, National Institute of Standards and Technology Special Publication standards for Computer Security and the Department of the Interior regulations on safeguarding of Privacy Act information (43 CFR part 2). The computer servers in which electronic records are stored are located in secured DOI facilities.

Paper copies of order forms are housed within secure, locked metal cabinets in the secured BLM Eastern States Accounting Department, access to which is limited to authorized personnel. The original historical land records maintained in paper format are stored in acid-free boxes in climate access controlled vaults within secure BLM facilities.

Access to all components of the system is limited to authorized BLM employees and is protected by user identification and unique passwords. Administrative privileges for monitoring are only granted to administrator-level users. The system incorporates a firewall and independent security monitor subsystems to further strengthen the Web site against unauthorized access or monitoring.

All online orders and billing records are available only to authorized personnel having a need-to-know and who have successfully completed DOI's Federal Information System Security Awareness, Privacy and Records Management training, and have signed the Rules of Behavior. A Privacy Impact Assessment was conducted to ensure that Privacy Act requirements and safeguard requirements are met. The assessment verified that appropriate controls and safeguards are in place.

RETENTION AND DISPOSAL:

Historical land records are maintained permanently in accordance with BLM Manual 1220—Records and Information Management, Schedule 4, Item 7 of the GRS/BLM Combined Records Schedules. The paper records are retired to the Archive II, National Archives and Records Administration (NARA) of the United States, College Park, Maryland, after they have been electronically incorporated into GLORAS. The land records indexed by GLORAS are retained indefinitely. The billing information is retained for 14 calendar days in the GLORAS system and then purged. The information collected in the Collection and Billings System is disposed of 6 years and 3 months after the order date. The disposal of these records is covered by the Accountable Officers Files, Schedule 6, Section 1A GRS/BLM Combined Records Schedule.

Paper records are disposed of by shredding or pulping, and records contained on electronic media are degaussed or erased in accordance with NARA guidelines and 384 Departmental Manual 1.

SYSTEM MANAGER AND ADDRESS:

Branch Chief, General Land Office Records Automation, Bureau of Land Management, Eastern States, Branch of General Land Office Records, 20 M Street SE., Washington, DC 20003.

NOTIFICATION PROCEDURES:

An individual requesting notification of the existence of records on himself or herself should send a signed, written inquiry to the System Manager identified above. The request envelope and letter should both be clearly marked “PRIVACY ACT INQUIRY.” A request for notification must meet the requirements of 43 CFR 2.235.

RECORDS ACCESS PROCEDURES:

An individual requesting records on him or herself should send a signed, written inquiry to the System Manager identified above. The request should describe the records sought as specifically as possible. The request envelope and letter should both be clearly marked “PRIVACY ACT REQUEST FOR ACCESS.” A request for access must meet the requirements of 43 CFR 2.238.

CONTESTING RECORDS PROCEDURES:

An individual requesting corrections or the removal of material from his or her records should send a signed, written request to the System Manager identified above. A request for corrections or removal must meet the requirements of 43 CFR 2.246.

RECORD SOURCE CATEGORIES:

The historical land records contain information provided by individuals to whom the land was granted, the surveyors, and other individuals (both governmental and private) who were integral to this historical process. Information needed to complete online orders of certified land records is obtained directly from members of the public and other individuals who are requesting to purchase certified copies of Federal land conveyance records.

EXEMPTIONS CLAIMED FOR THE SYSTEM:

None.

[FR Doc. 2014-12149 Filed 5-23-14; 8:45 am]

BILLING CODE 4310-GJ-P